DEPARTMENT OF LABOR

Office of the Secretary

Agency Information Collection Activities; Submission for OMB Emergency Review: Comment Request Veterans' Retraining Assistance Program

ACTION: Notice.

SUMMARY: The Department of Labor (DOL) has submitted the Employment and Training Administration (ETA) sponsored information collection request (ICR) proposal titled, “Veterans' Retraining Assistance Program,” to the Office of Management and Budget (OMB) for review and clearance utilizing emergency review procedures in accordance with the Paperwork Reduction Act of 1995 (Pub. L. 104-13, 44 U.S.C. Chapter 35) and 5 CFR 1320.13.

DATES: OMB approval has been requested by March 20, 2012. Submit comments on or before March 16, 2012.

ADDRESSES: A copy of this ICR, with applicable supporting documentation; including a description of the likely respondents, proposed frequency of response, and estimated total burden may be obtained from the RegInfo.gov Web site, http://www.reginfo.gov/public/do/PRAMain or by contacting Michel Smyth by telephone at 202-693-4129 (this is not a toll-free number) or sending an email to DOL_PRA_PUBLIC@dol.gov.

Submit comments about this request to the Office of Information and Regulatory Affairs, Attn: OMB Desk Officer for the Department of Labor, Employment and Training Administration, Office of Management and Budget, Room 10235, Washington, DC 20503, Telephone: 202-395-6929/Fax: 202-395-6881 (these are not toll-free numbers), email: OIRA_submission@omb.eop.gov.

FOR FURTHER INFORMATION CONTACT: Michel Smyth by telephone at 202-693-4129 (this is not a toll-free number) or by email at DOL_PRA_PUBLIC@dol.gov.

SUPPLEMENTARY INFORMATION: The ETA seeks approval to collect individual applicant data for the Veterans Retraining Assistance Program (VRAP) as part of the VOW to Hire Heroes Act of 2011 (Pub. L. 112-56), which was signed into law on November 21, 2011. This benefit directs the Department of Veterans Affairs (VA), in cooperation with the DOL, to pay for up to 12 months of a training program in a high demand occupation for unemployed eligible veterans. The program is to serve up to 45,000 veterans in fiscal year 2012, beginning July 1, 2012, and up to 54,000 veterans from October 1, 2012, through March 31, 2014.

The VRAP provides the benefit to veterans who fulfill the following eligibility criteria: As of date of application, is at least 35 years old and less than 60; discharged from active duty under conditions other than dishonorable; is unemployed as of date of application; is not eligible to receive other educational assistance from the VA; is not in receipt of compensation for a service-connected disability rated totally disabling by reason of unemployability; was not and is not enrolled in any Federal or State job training program within the previous 180 days; and, the application must be submitted not later than October 1, 2013.

The VA is responsible for determining the following eligibility criteria: Discharged from active duty under conditions other than dishonorable; is not eligible to receive other educational assistance from the VA; is not in receipt of compensation for a service-connected disability rated totally disabling by reason of unemployability. The VA will be collecting information required for their eligibility criteria through the “Application for VA Educational Benefits” (OMB Control Number 2900-0154, VA Form 22-1990). The DOL is required to determine whether each veteran applying for the program is between 35 and 60 years old, is unemployed as of the date of the application, has not and is not enrolled in a Federal or state job training program within 180 days of the application, and has applied for the program no later than October 1, 2013. The DOL does not currently have an approved OMB information collection for determining eligibility under the statute. The DOL is proposing to determine its eligibility requirements by collecting individual applicant data. The data will be linked to the VA's Veterans On-line Application (VONAPP, VA Form 22-1990) to complete the application. The VA will transmit a report to the DOL about the completion status of the veterans, so that the DOL can make contact with the veteran to offer employment services.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6.

The ETA seeks OMB approval under the PRA emergency clearance process for the individual applicant data collection, because the VRAP program has a required start date of July 1, 2012. The application system must be in place well before the program start date in order to provide program outreach to veterans and technical assistance to DOL grantees. This requires an expedited process for building a system for collecting individual data that has the capacity to serve up to 45,000 veterans between July 1, 2012 and September 30, 2012. Failure to be able to collect individual data would jeopardize the ability for applicants to complete an application in time to begin educational services by the statutory start date of July 1, 2012. The application collects eligibility information required by the statute. Inability to collect individual applicant information will also jeopardize the ability of the DOL to offer employment services the statute requires.

Interested parties are encouraged to send comments to the OMB, Office of Information and Regulatory Affairs at the address shown in the ADDRESSES section by March 16, 2012. In order to help ensure appropriate consideration, comments should mention OMB ICR Reference Number 201202-1205-005. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Title of Collection: Veterans' Retraining Assistance Program.

OMB ICR Reference Number: 201202-1205-005.

Type of Review: New collection (Request for a new OMB Control Number).

Requested Duration of Authorization: Six (6) months from date of approval.

Affected Public: Individuals or households.

Total Estimated Number of Respondents: 100,000.

Frequency of Collection: Once.

Total Estimated Number of Responses: 100,000.

Estimated Time per Response: Five (5) minutes.

Total Estimated Annual Burden Hours: 8,333.

Total Estimated Annual Other Costs Burden: $0.

Dated: March 7, 2012.
Michel Smyth,
Departmental Clearance Officer.

[FR Doc. 2012-5965 Filed 3-12-12; 8:45 am]

BILLING CODE 4510-23-P